DEPARTMENT OF AGRICULTURE

Food Safety and Inspection Service

[Docket No. FSIS-2007-0038]

Notice of Request for a New Information Collection (Consumer Focus Groups)

AGENCY: Food Safety and Inspection Service, USDA.

ACTION: Notice and request for comments.

SUMMARY: In accordance with the Paperwork Reduction Act of 1995 and the Office of Management and Budget (OMB) regulations, the Food Safety and Inspection Service (FSIS) is announcing its intention to request a new information collection concerning the use of focus groups to obtain information from consumers on various food safety issues to support Agency decision-making and policy formulation.

DATES: Comments on this notice must be received on or before April 21, 2009.

ADDRESSES: FSIS invites interested persons to submit comments on this notice. Comments may be submitted by either of the following methods:

• Federal eRulemaking Portal: This Web site provides the ability to type short comments directly into the comment field on this Web page or attach a file for lengthier comments. Go to http://www.regulations.gov. Follow the online instructions at that site for submitting comments.

• Mail, including floppy disks or CD-ROMs, and hand- or courier-delivered items: Send to Docket Clerk, U.S. Department of Agriculture, Food Safety and Inspection Service, 1400 Independence Avenue, SW., Room 2534, South Agriculture Building, Washington, DC 20250-3700.

Instructions: All items submitted by mail or electronic mail must include the Agency name and docket number FSIS-2007-0038. Comments received in response to this docket will be made available for public inspection and posted without change, including any personal information, to http://www.regulations.gov.

Docket: For access to background documents or comments received, go to the FSIS Docket Room at the address listed above between 8:30 a.m. and 4:30 p.m., Monday through Friday.

For Additional Information: Contact John O'Connell, Paperwork Reduction Act Coordinator, Food Safety and Inspection Service, USDA, 1400 Independence Avenue, SW., Room 3532 South Building, Washington, DC 20250, (202) 720-0345.

SUPPLEMENTARY INFORMATION: Title: Consumer Focus Groups.

Type of Request: New information collection.

Abstract: FSIS has been delegated the authority to exercise the functions of the Secretary as specified in the Federal Meat Inspection Act (FMIA) (21 U.S.C. 601, et seq.), the Poultry Products Inspection Act (PPIA) (21 U.S.C. 451, et seq.), and the Egg Products Inspection Act (EPIA) (21 U.S.C. 1031, et seq.). FSIS protects the public by verifying that meat, poultry, and egg products are safe, wholesome, unadulterated, and properly labeled and packaged.

FSIS is requesting a new information collection addressing paperwork requirements related to the collection of information from the use of consumer focus groups.

To assist in fulfilling its public health mission, FSIS needs at times to obtain information from consumers to assess the effectiveness of its consumer protection initiatives and to gain data to support Agency decisionmaking and policy formulation.

Foodborne illness is a significant public health problem in the United States. Of particular concern are those populations at risk for foodborne illness—the very young, the very old, and individuals with compromised immune systems. Labeling information can be used to educate consumers to avoid higher-risk consumption choices and to help them follow the recommended safe handling practices. For consumer education efforts to be effective, FSIS needs to ensure that it has a clear understanding of who is at risk and of what mechanisms for delivering food safety and public health messages are likely to be successful. Thus, FSIS is seeking information about the content of public health messages, and methods of delivery of those messages, that will promote safe food handling and preparation practices among consumers.

FSIS is planning to contract for research to test public health messages on safe handling and preparation of meat, poultry, and egg products, to assess how well these messages convey information, and to identify effective delivery mechanisms for these messages. The research will use consumer focus groups to determine the perceptions of segments of the general population and at-risk populations regarding relevant food safety messages.

FSIS is requesting an information collection for twelve consumer focus groups. The purpose of the first six focus groups is to conduct qualitative research with consumers to (1) assess consumers' understanding of cooking instructions for specific products (e.g., uncooked, breaded, boneless poultry products) and (2) collect information on consumers' understanding of existing public health messages (e.g., use a thermometer to check the doneness of meat and poultry). The purpose of the second set of six focus groups is to conduct qualitative research with consumers to collect information on consumers' understanding of new public health messages. FSIS will use the results of the focus groups to inform the development of labeling policy for meat, poultry, and egg products and to refine, and to decide how to disseminate, public health messages to ensure that they are useful for effecting behavioral change and reducing foodborne illness.

FSIS has made the following estimates based upon an information collection assessment:

Estimate of Burden: FSIS estimates that it will take respondents an average of 2 hours per response.

Respondents: Consumers.

Estimated No. of Respondents: 120.

Estimated No. of Annual Responses per Respondent: 1.

Estimated Total Annual Burden on Respondents: 240 hours.

Copies of this information collection assessment can be obtained from John O'Connell, Paperwork Reduction Act Coordinator, Food Safety and Inspection Service, USDA, 1400 Independence, SW., Room 3532, South Bldg., Washington, DC 20250, (202) 720-0345.

Comments are invited on: (a) Whether the proposed collection of information is necessary for the proper performance of FSIS' functions, including whether the information will have practical utility; (b) the accuracy of FSIS' estimate of the burden of the proposed collection of information, including the validity of the methodology and assumptions used; (c) ways to enhance the quality, utility, and clarity of the information to be collected; and, (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

Additional Public Notification

Public awareness of all segments of rulemaking and policy development is important. Consequently, in an effort to ensure that the public and in particular minorities, women, and persons with disabilities, are aware of this notice, FSIS will announce it on-line through the FSIS Web page located at http://www.fsis.usda.gov/regulations/2009_Notices_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/.

Options range from recalls to export information to regulations, directives and notices. Customers can add or delete subscriptions themselves, and have the option to password protect their accounts.

Done at Washington, DC, on: February 13, 2009.
Alfred V. Almanza,
Administrator.

[FR Doc. E9-3603 Filed 2-19-09; 8:45 am]

BILLING CODE 3410-DM-P